DEPARTMENT OF AGRICULTURE

Forest Service

Notice of Proposed New Fee Site; Federal Lands Recreation Enhancement Act (Title VIII, Pub. L. 108-447)

AGENCY: Manti-La Sal National Forest, USDA Forest Service.

ACTION: Notice of proposed new fee site.

SUMMARY: The Manti-La Sal National Forest is proposing to charge fees at the thirty-unit Pioneer Campground and at the Buckeye Group Site within the Buckeye Recreation Area Paradox, Colorado. The proposed fee for the Pioneer Campground units is $10 per site per night. The proposed fee for the Buckeye Group Site that holds up to 50 people is $50 per night. There are 19 other single units, 4 double units and a 5 unit day use area also located within the Buckeye Recreation Area that will be free to the public and on a first come basis. Fees are assessed based on the level of amenities and services provided, cost of operations and maintenance, market assessment and public comment. The fees are proposed and will be determined upon further analysis and public comment. Funds from fees would be used for the continued operation and maintenance and improvements of Pioneer Campground and the Buckeye Group Site.

Improvements planned include fire rings, picnic tables, serving tables, utility tables, information bulletins, fencing, improved roads and a host site. These actions address sanitation and safety concerns and improve deteriorating vegetation and conditions at the campgrounds. Finally, these actions improve the recreation experience.

An analysis of the campground shows that the proposed fees are reasonable and typical of similar sites in the area.

DATES: Comments will be accepted through October 31, 2010. New fees would begin May 2011.

ADDRESSES: Pamela Brown, Forest Supervisor, Manti-La Sal National Forest, 599 West Price River Drive, Price, Utah 84501.

FOR FURTHER INFORMATION CONTACT: Brian Murdock, Moab/Monticello Recreation Fee Coordinator, 435-636-3367. Information about proposed fee changes can also be found on the Intermountain Region Web site: http://www.fs.fed.us/r4/recreation/rac/index.shtml.

SUPPLEMENTARY INFORMATION: The Federal Recreation Lands Enhancement Act (Title VII, Pub. L. 108-447) directed the Secretary of Agriculture to publish a six-month advance notice in the Federal Register whenever new recreation fee areas are established. Once public involvement is complete, these new fees will be reviewed by a Recreation Resource Advisory Committee prior to a final decision and implementation.

Dated: April 19, 2010.
Rod Player,
Acting Forest Supervisor.

[FR Doc. 2010-9445 Filed 4-23-10; 8:45 am]

BILLING CODE 3410-11-M